DEPARTMENT OF TRANSPORTATION

Federal Aviation Administration

14 CFR Part 39

[Docket No. FAA-2006-24204; Directorate Identifier 2005-NM-178-AD; Amendment 39-14612; AD 2006-11-08]

RIN 2120-AA64

Airworthiness Directives; BAE Systems (Operations) Limited Model BAe 146 and Avro 146-RJ Airplanes

AGENCY: Federal Aviation Administration (FAA), Department of Transportation (DOT).

ACTION: Final rule.

SUMMARY: The FAA is superseding an existing airworthiness directive (AD), which applies to certain BAE Systems (Operations) Limited Model BAe 146 and Avro 146-RJ airplanes. That AD currently requires a one-time inspection to detect corrosion of the flap structure and machined ribs, corrective actions if necessary, and reprotection of the rib boss bores. This new AD requires a records review of the results of that inspection, and an additional inspection and related investigative/corrective action if necessary. This AD results from the development of an improved inspection for corrosion in the subject area. We are issuing this AD to detect and correct corrosion in the flap structure and machined ribs, which could result in reduced structural integrity of the airplane.

DATES: This AD becomes effective June 29, 2006.

The Director of the Federal Register approved the incorporation by reference of a certain publication listed in the AD as of June 29, 2006.

ADDRESSES: You may examine the AD docket on the Internet at http://dms.dot.gov or in person at the Docket Management Facility, U.S. Department of Transportation, 400 Seventh Street, SW., Nassif Building, Room PL-401, Washington, DC.

Contact British Aerospace Regional Aircraft American Support, 13850 Mclearen Road, Herndon, Virginia 20171, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2002-03-07, amendment 39-12648 (67 FR 6852, February 14, 2002). The existing AD applies to certain BAE Systems (Operations) Limited Model BAe 146 and Avro 146-RJ airplanes. That NPRM was published in the Federal Register on March 27, 2006 (71 FR 15076). That NPRM proposed to require a records review of the results of a certain inspection, and an additional inspection and related investigative/corrective action if necessary.

Comments

We provided the public the opportunity to participate in the development of this AD. No comments have been received on the NPRM or on the determination of the cost to the public.

Conclusion

We have carefully reviewed the available data and determined that air safety and the public interest require adopting the AD as proposed.

Costs of Compliance

The following table provides the estimated costs for U.S. operators to comply with this AD. This AD will affect about 35 airplanes of U.S. registry.

Estimated Costs
Action | Work hours | Average labor rate per hour | Parts | Cost per hours airplane
Records review | 1 | $65 | None | $65
Flaps-on inspection if required | 4 | 65 | None | 260
Flaps-off inspection if required | 40 | 65 | None | 2,600

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12648 (67 FR 6852, February 14, 2002) and by adding the following new airworthiness directive (AD):

2006-11-08 BAE Systems (Operations) Limited (Formerly British Aerospace Regional Aircraft): Amendment 39-14612. Docket No. FAA-2006-24204; Directorate Identifier 2005-NM-178-AD.

Effective Date

(a) This AD becomes effective June 29, 2006.

Affected ADs

(b) This AD supersedes AD 2002-03-07.

Applicability

(c) This AD applies to BAE Systems (Operations) Limited Model BAe 146-100A, -200A, and -300A series airplanes, and BAE Systems (Operations) Limited Model Avro 146-RJ70A, 146-RJ85A, and 146-RJ100A airplanes; certificated in any category; except those modified by BAE Systems (Operations) Limited Modification HCM01694F.

Unsafe Condition

(d) This AD results from the development of an improved inspection for corrosion in the subject area. We are issuing this AD to detect and correct corrosion in the flap structure and machined ribs, which could result in reduced structural integrity of the airplane.

Compliance

(e) You are responsible for having the actions required by this AD performed within the compliance times specified, unless the actions have already been done.

Records Review

(f) For airplanes on which the initial inspection required by AD 2002-03-07 was done before the effective date of this AD: Within 24 months after the effective date of this AD, review the airplane maintenance records to identify the results of the inspection.

Inspection: Airplanes Not Previously Inspected

(g) For airplanes that were not inspected in accordance with AD 2002-03-07 before the effective date of this AD: Before the accumulation of 72 months since the date of issuance of the original standard airworthiness certificate or the date of issuance of the original export certificate of airworthiness, or within 24 months after the effective date of this AD, whichever occurs later, do a general visual “flaps off” inspection to detect corrosion of the of the flap structure and machined ribs, in accordance with the Accomplishment Instructions of BAE Systems (Operations) Limited Inspection Service Bulletin ISB.57-066, Revision 2, dated March 18, 2004. If no corrosion is found: Before further flight, reprotect the rib boss bores and faces, in accordance with BAE Systems (Operations) Limited Inspection Service Bulletin ISB.57-066, Revision 2, dated March 18, 2004.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Follow-On Actions: No Corrosion Found

(h) If it is positively determined from the records review required by paragraph (f) of this AD that no corrosion was found during the initial inspection, or if no corrosion was found during the initial inspection required by paragraph (g) of this AD: No further work is required by this AD.

Follow-On Actions: Corrosion Found

(i) If it is determined during the records review required by paragraph (f) of this AD that any corrosion was found during the initial inspection, or if it cannot be positively determined from the records review required by paragraph (f) of this AD that no corrosion was found during the initial inspection, or if any corrosion was found during the initial inspection required by paragraph (g) of this AD: Within 36 months after the initial inspection or 24 months after the effective date of this AD, whichever occurs later, but not sooner than 24 months after the initial inspection, perform a general visual inspection of the flap structure and machined ribs to detect corrosion, as specified in paragraph (i)(1) or (i)(2), as applicable, in accordance with the Accomplishment Instructions of BAE Systems (Operations) Limited Inspection Service Bulletin ISB.57-066, Revision 2, dated March 18, 2004.

(1) If the corrosion extended into the boss bores, or if it cannot be positively determined from the records review specified in paragraph (f) of this AD that corrosion did not extend into the boss bores, do a “flaps-off” inspection.

(2) If the corrosion did not extend into the boss bores, do a “flaps-on” inspection.

Corrective Actions

(j) If any corrosion is found during any inspection required by this AD: Repair before further flight in accordance with the Accomplishment Instructions of BAE Systems (Operations) Limited Inspection Service Bulletin ISB.57-066, Revision 2, dated March 18, 2004, except as required by paragraph (k) of this AD.

Exceptions to Service Bulletin Specifications

(k) If any corrosion is detected and BAE Systems (Operations) Limited Inspection Service Bulletin ISB.57-066, Revision 2, dated March 18, 2004, specifies to contact the manufacturer for repair instructions: Repair before further flight, using a method approved by either the Manager, International Branch, ANM-116, Transport Airplane Directorate, FAA; or the Civil Aviation Authority (or its delegated agent).

(l) Although the service bulletin referenced in this AD specifies to submit certain information to the manufacturer, this AD does not include that requirement.

Actions Accomplished According to Previous Issue of Service Bulletin

(m) Actions done before the effective date of this AD in accordance with the Accomplishment Instructions of BAE Systems (Operations) Limited Inspection Service Bulletin ISB.57-066, dated May 15, 2001; or Revision 1, dated September 20, 2002, are acceptable for compliance with the corresponding requirements of paragraphs (g), (h), (i), and (j) of this AD.

Alternative Methods of Compliance (AMOCs)

(n)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(o) British airworthiness directive G-2005-0018, dated July 20, 2005, also addresses the subject of this AD.

Material Incorporated by Reference

(p) You must use BAE Systems (Operations) Limited Inspection Service Bulletin ISB.57-066, Revision 2, dated March 18, 2004, to perform the actions that are required by this AD, unless the AD specifies otherwise. The Director of the Federal Register approved the incorporation by reference of this document in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on May 15, 2006.
Kevin M. Mullin,
Acting Manager, Transport Airplane Directorate, Aircraft Certification Service.

[FR Doc. 06-4802 Filed 5-24-06; 8:45 am]

BILLING CODE 4910-13-P